DEPARTMENT OF ENERGY

Federal Energy Regulatory Commission

[Docket No. CP06-39-000]

Northern Natural Gas Company; Notice of Application for Abandonment

December 22, 2005.

Take notice that on December 16, 2005, Northern Natural Gas Company (Northern), 1111 South 103rd Street, Omaha, Nebraska 68124, filed in Docket No. CP06-39-000, an application pursuant to section 7(b) of the Natural Gas Act (NGA), for authorization to abandon, by sale, to Saleco, a yet to be named limited liability company, with the simultaneous transfer of Saleco to Duke Energy Field Services, LP (DEFS), following Saleco's acquisition of certain pipeline, compression, dehydrating, purification and delivery point facilities and appurtenances located in various counties in Texas, Oklahoma and Kansas. Northern also requests a Commission determination that following abandonment, the facilities will be non-jurisdictional gathering facilities pursuant to section 1(b) of the NGA. Finally, Northern requests Commission approval to abandon the services it provides with respect to primary receipt and/or delivery points located on the facilities proposed for abandonment, all as more fully set forth in the request which is on file with Commission and open to public inspection.

Specifically, Northern proposes to convey to Saleco, approximately 419 miles of its pipeline, compressor stations and all delivery and receipt points located along the length of the pipeline and all other appurtenant facilities. The facilities are referred to by Northern as the Beaver Wet System which handles wet gas for processing.

Any questions regarding this application should be directed to Michael T. Loeffler, Director of Certificates for Northern, 1111 South 103rd Street, Omaha, Nebraska 68124, at (402) 398-7103.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: January 12, 2006.

Magalie R. Salas,
Secretary.

[FR Doc. E5-8162 Filed 12-30-05; 8:45 am]

BILLING CODE 6717-01-P